Proclamation 10891 of January 31, 2025

National School Choice Week, 2025

By the President of the United States of America

A Proclamation

Throughout our Nation's history, our schools have been the gateway to the American Dream, the portal to American prosperity, and the foundation of the American spirit. During this National School Choice Week, we reaffirm our commitment to empowering American parents with the freedom to choose the education that best suits their values, matches their children's needs, and equips their families to lead long, flourishing, and fulfilling lives.

As American citizens, one of our most righteous obligations is to uplift the youngest among us, and to remove the hurdles obstructing the dreams of our children, our grandchildren, and generations yet unborn. During my first term, our Nation made tremendous progress on educational freedom. With support from my Administration, dozens of States enacted school choice programs that empowered millions of parents and inspired children to seize their futures. But there is still more work to do. As we return authority over education from Washington to the States, and from bureaucrats to parents, I recommit to working with State and Federal lawmakers to provide educational freedom for every American family.

School choice is not only about returning freedom to our classrooms, but also about common sense. Freedom in education leads to higher graduation rates, increased competition among schools, and improved reading and math scores. School choice is also closely linked to school safety, as it allows parents to play a primary role in protecting their children. As we begin bringing down costs for families, educational freedom proves far more efficient than the outdated system we have been stuck with, generating up to $23.8 billion in net fiscal savings for American taxpayers.

As President, I will never stop fighting for every American child to receive the world-class education they deserve. I will work tirelessly to ensure America's education system harnesses and achieves its full potential. Whether their education is through homeschooling or charter, public, or parochial schools, we will renew safety, security, and sanity in our classrooms.

This National School Choice Week, we resolve to promote a Nation, a culture, and a future that empowers our children, fortifies our freedom, secures our destiny, and unleashes the full potential of American ingenuity for many years to come. America's golden age begins in the classroom, and when we rebuild the best education system in the world, the future will truly be ours.

NOW, THEREFORE, I, DONALD J. TRUMP, President of the United States of America, by virtue of the authority vested in me by the Constitution and the laws of the United States, do hereby proclaim January 26, 2025 to February 1, 2025, as National School Choice Week.

IN WITNESS WHEREOF, I have hereunto set my hand this thirty-first day of January, in the year of our Lord two thousand twenty-five, and of the Independence of the United States of America the two hundred and forty-ninth.

[FR Doc. 2025-02344

Filed 2-4-25; 11:15 am]

Billing code 3395-F4-P